ENVIRONMENTAL PROTECTION AGENCY

[FRL-7437-8]

Agency Information Collection Activities: Proposed Collection; Comment Request; See List of ICRs Planned to be Submitted in Section A

AGENCY: Environmental Protection Agency (EPA).

ACTION: Notice.

SUMMARY: In compliance with the Paperwork Reduction Act (44 U.S.C. 3501 et seq.), this document announces that EPA is planning to submit the following three continuing Information Collection Requests (ICR) to the Office of Management and Budget (OMB): (1) National Pollutant Discharge Elimination System and Sewage Sludge Management State Program Requirements, EPA ICR No. 0168.07, OMB Control No. 2040-0057, expiring on April 30, 2003, (2) National Pollutant Discharge Elimination System Modification and Variance Requests, EPA ICR No. 0029.08, OMB Control No. 2040-0068, expiring on April 30, 2003, and (3) Applications for National Pollutant Discharge Elimination System Discharge Permits and the Sewage Sludge Management Permits, EPA ICR No. 0226.17, OMB Control No. 2040-0086, expiring on April 30, 2003. Before submitting the ICRs to OMB for review and approval, EPA is soliciting comments on specific aspects of the information collections as described at the beginning of the SUPPLEMENTARY INFORMATION.

DATES: Comments must be submitted on or before March 11, 2003.

ADDRESSES: Comments may be submitted electronically, by mail, or through hand delivery/courier. Follow the detailed instructions as provided in Section I.B. of the SUPPLEMENTARY INFORMATION.

FOR FURTHER INFORMATION CONTACT: Please direct questions or requests for copies of these ICR to: Jack Faulk, Industrial Branch, Water Permits Division, Office of Wastewater Management; tel.: (202) 564-0768, fax: (202) 564-6431; or e-mail: faulk.jack@epa.gov. Or see Section I.C of the SUPPLEMENTARY INFORMATION.

SUPPLEMENTARY INFORMATION:

I. General Information for All ICRs

An Agency may not conduct or sponsor, and a person is not required to respond to, a collection of information unless it displays a currently valid OMB control number. The OMB control numbers for EPA's regulations are displayed in 40 CFR part 9.

The EPA would like to solicit comments to:

(1) Evaluate whether the proposed collection of information is necessary for the proper performance of the functions of the Agency, including whether the information will have practical utility;

(2) Evaluate the accuracy of the Agency's estimate of the burden of the proposed collection of information;

(3) Enhance the quality, utility, and clarity of the information to be collected; and

(4) Minimize the burden of the collection of information on those who are to respond, including through the use of automated collection techniques or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

A. How Can I Get Copies of the ICR Supporting Statement and Other Related Information?

1. Docket. EPA has established an official public docket for these ICRs under: (1) Docket ID No. OW-2002-0063 for National Pollutant Discharge Elimination System and Sewage Sludge Management State Program Requirements, EPA ICR No. 0168.07, OMB Control No. 2040-0057; (2) Docket ID No. OW-2002-0064 for National Pollutant Discharge Elimination System Modification and Variance Requests, EPA ICR No. 0029.08, OMB Control No. 2040-0068; and (3) Docket ID No. OW-2002-0065 for Applications for National Pollutant Discharge Elimination System Discharge Permits and the Sewage Sludge Management Permits, EPA ICR No. 0226.17, OMB Control No. 2040-0086.

The official public docket consists of the documents specifically referenced in the ICRs, any public comments received, and other information related to these ICRs. Although a part of the official docket, the public docket does not include Confidential Business Information (CBI) or other information whose disclosure is restricted by statute. The official public docket is the collection of materials that is available for public viewing at the Water Docket in the EPA Docket Center, (EPA/DC) EPA West, Room B135, 1301 Constitution Ave., NW, Washington, DC. The EPA Docket Center Public Reading Room is open from 8:30 a.m. to 4:30 p.m., Monday through Friday, excluding legal holidays. The telephone number for the Public Reading Room is (202) 566-1744, and the telephone number for the Water Docket is (202) 566-2426.

2. Electronic Access. You may access this Federal Register document electronically through the EPA Internet under the “Federal Register” listings at http://www.epa.gov/fedrgstr/.

You may use EPA Dockets at http://www.epa.gov/edocket/ to submit or view public comments, access the index listing of the contents of the official public docket, and to access those documents in the public docket that are available electronically. Once in the system, select “search,” then key in the docket identification number.

Certain types of information will not be placed in the EPA Dockets. Information claimed as CBI, and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Section I.A. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket visit EPA Dockets online or see 67 FR 38102, May 31, 2002.

B. How and to Whom Do I Submit Comments?

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments in formulating a final decision. If you wish to submit CBI or information that is otherwise protected by statute, please contact the person listed in FOR FURTHER INFORMATION CONTACT. Do not use EPA Dockets or e-mail to submit CBI or information protected by statute.

1. Electronically. If you submit an electronic comment as described below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in the appropriate Docket ID No. (i.e., OW-2002-0063, OW-2002-0064, or OW-2002-0065). The system is an “anonymous access” system, which means EPA will not know your identity, e-mail address, or other contact information unless you provide it in the body of your comment.

ii. E-mail. Comments may be sent by electronic mail (e-mail) to: ow-docket@epa.gov, Attention Docket ID No. (please use appropriate Docket ID number, either) OW-2002-0063, OW-2002-0064, or OW-2002-0065. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Section I.B.2. These electronic submissions will be accepted in WordPerfect or ASCII file format. Avoid the use of special characters and any form of encryption.

2. By Mail. Send four of copies of your comments to: Water Docket, Environmental Protection Agency, Mail code: #4101T, 1200 Pennsylvania Ave., NW, Washington, DC, 20460, Attention Docket ID No. (please use appropriate Docket ID number, either) OW-2002-0063, OW-2002-0064, or OW-2002-0065.

3. By Hand Delivery or Courier. Deliver your comments to: EPA Docket Center, EPA West, Room B102, 1301 Constitution Avenue, NW, Washington, DC, Attention Docket ID No. (please use appropriate Docket ID number, either) OW-2002-0063, OW-2002-0064, or OW-2002-0065. Such deliveries are only accepted during the Docket's normal hours of operation as identified in Section I.A.1.

C. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

D. What Information Is EPA Particularly Interested In?

Pursuant to section 3506(c)(2)(A) of the PRA, EPA specifically solicits comments and information to enable it to:

1. Evaluate whether the proposed collections of information are necessary for the proper performance of the functions of the Agency, including whether the information will have practical utility.

2. Evaluate the accuracy of the Agency's estimates of the burdens of the proposed collections of information.

3. Enhance the quality, utility, and clarity of the information to be collected.

4. Minimize the burden of the collections of information on those who are to respond, including through the use of appropriate automated or electronic collection technologies or other forms of information technology, e.g., permitting electronic submission of responses.

II. List of ICRs Planned To Be Submitted

In compliance with the Paperwork Reduction Act (44 U.S.C. 3501 et seq.), this notice announces that EPA is planning to submit the following three continuing Information Collection Requests (ICR) to the Office of Management and Budget (OMB):

(1) National Pollutant Discharge Elimination System and Sewage Sludge Management State Program Requirements, EPA ICR No. 0168.07, OMB Control No. 2040-0057, expiring on April 30, 2003.

(2) National Pollutant Discharge Elimination System Modification and Variance Requests, EPA ICR No. 0029.08, OMB Control No. 2040-0068, expiring on April 30, 2003.

(3) Applications for National Pollutant Discharge Elimination System Discharge Permits and the Sewage Sludge Management Permits, EPA ICR No. 0226.17, OMB Control No. 2040-0086, expiring on April 30, 2003.

A. Contact Individual for ICRs

For all three ICRs, please contact: Jack Faulk, Industrial Branch, Water Permits Division, Office of Wastewater Management; tel.: (202) 564-0768, fax: (202) 564-6431; or e-mail: faulk.jack@epa.gov.

B. Individual ICRs

(1) National Pollutant Discharge Elimination System and Sewage Sludge Management State Program Requirements, EPA ICR No. 0168.07, OMB Control No. 2040-0057, expiring on April 30, 2003.

Affected Entities: Entities potentially affected by this action are those State and Tribal governments and governments of U.S. Territories that are authorized by EPA to administer the National Pollutant Discharge Elimination System (NPDES) Permitting Program.

Abstract: Under the NPDES program, States, Federally Recognized Indian Tribes, and U.S. Territories, hereafter referred to as States, may acquire the authority to issue permits. States that administer NPDES programs are also required to obtain pretreatment authority (authority to require publicly owned treatment works (POTWs) to establish pretreatment programs and to require that indirect dischargers meet pretreatment standards) and authority to issue permits to federal facilities. These governments have the option of acquiring authority to issue general permits (permits that cover a category or categories of similar discharges). States with existing NPDES programs must submit requests for program modifications to add pretreatment, Federal facilities, or general permit authority. In addition, as federal statutes and regulations are modified, States must submit program modifications to ensure that their program continues to meet Federal requirements.

States have the option of obtaining a sludge management program. This program may be a component of a State NPDES Program, or it may be administered as a separate program. To obtain a NPDES or sludge program, a State must submit an application that includes a program description, an Attorney General's Statement, draft Memorandum of Agreement (MOA) with the EPA Region, and copies of the State's statutes and regulations.

Once a State obtains authority for an NPDES or sludge program, it becomes responsible for implementing the program in that jurisdiction. The State must retain records on the permittees and perform inspections. In addition, when a State obtains NPDES or sludge authority, EPA must oversee the program. Thus, States must submit permit information and compliance reports to the EPA.

When EPA issues a permit in an unauthorized State, that State must certify that the permit requirements comply with State water laws. According to the Clean Water Act (CWA) (section 510), States may adopt discharge requirements that are equal to or more stringent than requirements in the CWA or Federal regulations.

The purpose of this ICR is to revise and extend the current recordkeeping and reporting requirements associated with State NPDES and sludge programs. There are three categories of reporting requirements that are covered by this ICR. The first category, “State Program Requests,” includes the activities States must complete to request a new NPDES or sludge program, or to modify an existing program. The second category, “State Program Implementation,” includes the activities that approved States must complete to implement an existing program, and also certification requirements for non-NPDES States. The third category, “State Program Oversight,” includes activities required of NPDES States so that EPA may satisfy its statutory requirements for state program oversight. The information collected by EPA is used to evaluate the adequacy of States' NPDES or sludge program and to provide EPA with the information necessary to fulfill its statutory oversight functions over State program performance and individual permit actions. EPA will use this information to evaluate States' requests for full or partial program approval and program modifications. In order to evaluate the adequacy of a State's proposed program, appropriate information must be provided to ensure that proper procedures, regulations, and statutes are in place and consistent with the CWA requirements.

Burden Statement: The public reporting and burden for collecting information is estimated to average 966,966 hours annually. EPA estimates an average of 19,226 responses each year.

This estimate includes the time required to review the instructions, search existing data sources, gather and maintain all necessary data, and complete and review the information collected. The respondents are the 50 States, 7 U.S. Territories, and 567 Federally-Recognized Indian Tribes (of which 45 States and 1 Territory are authorized to administer the NPDES Program); the burden per respondent is variable although the majority of the burden is on the 45 States and 1 Territory that are authorized to administer the NPDES Program.

(2) National Pollutant Discharge Elimination System Modification and Variance Requests, EPA ICR No. 0029.08, OMB Control No. 2040-0068, expiring on April 30, 2003.

Affected Entities: Entities potentially affected by this action are NPDES permit applicants that request a variance from the conditions that would normally be imposed on the applicant's discharge or NPDES permittees that request a modification of the NPDES or sewage sludge management permit conditions.

Abstract: This ICR calculates the burden and costs associated with modifications and variances made to NPDES permits and to the National Sewage Sludge Management Program permit requirements. The regulations specified at 40 CFR 122.62 and 122.63 specify information a facility must report in order for the U.S. Environmental Protection Agency (EPA) to determine whether a permit modification is warranted. A NPDES permit applicant may request a variance from the conditions that would normally be imposed on the applicant's discharge. An applicant must submit information so the permitting authority can assess whether the facility is eligible for a variance, and what deviation from Clean Water Act (CWA) provisions is necessary. In general, EPA and authorized States use the information to determine whether: (1) The conditions or requirements that would warrant a modification or variance exist, and (2) the progress toward achieving the goals of the Clean Water Act will continue if the modification or variance is granted. Other uses for the information provided include: Updating records on permitted facilities, supporting enforcement actions, and overall program management, including policy and budget development and responding to Congressional inquiries.

Burden Statement: EPA estimates that a total of 13,091 NPDES permittees will submit Modification and Variance Requests each year. Nationally, NPDES permittees will spend 57,051 hours collecting information for and preparing these requests. Each permittee submitting a request will spend an average of 4.36 hours preparing a request (57,051 burden hours divided by 13,091 permittees). However, there is a wide range in the actual time spent on the preparation of modification and variance requests.

State government burden is also a respondent burden for this ICR. Total State government burden hours for the 45 States and 1 Territory authorized to administer the NPDES Program are estimated to be 246,946 for reviewing and approving these modification and variance requests.

The total respondent burden hours are 303,997 for 13,137 respondents.

(3) Applications for National Pollutant Discharge Elimination System Discharge Permits and the Sewage Sludge Management Permits, EPA ICR No. 0226.17, OMB Control No. 2040-0086, expiring on April 30, 2003.

Affected entities: Publicly owned treatment works (POTWs), privately owned treatment works, new and existing manufacturing and commercial dischargers, storm water dischargers, treatment works treating domestic sewage (TWTDS), and other entities that apply for NPDES permits.

Abstract: This ICR calculates the burden and costs associated with permit applications for NPDES discharges and sewage sludge management activities. EPA uses the data contained in applications and supplemental information requests to set appropriate permit conditions, issue permits, and assess permit compliance. EPA maintains certain national application information in databases, that assists permit writers in determining permit conditions. For most permits, EPA has developed standard application forms. In some cases, such as requests for additional information and storm water applications from municipal separate sewer systems, standard forms do not exist because standard forms are not appropriate for the information collected or because they have not been developed. Application forms correspond to the different types of applicants, each form requesting information necessary for issuing permits to the associated applicants. Applicants include POTWs, privately owned treatment works, new and existing manufacturing and commercial dischargers, storm water dischargers, TWTDS, and others. Depending on the application form they are using, applicants may be required to supply information about their facilities, discharges, treatment systems, sewage sludge use and disposal practices, pollutant sampling data, or other relevant information. Section 308 of the Clean Water Act authorized EPA to request from dischargers any information that may be reasonably required to carry out the objectives and provisions of the Act. Under this authority, EPA sometimes requests information supplemental to that contained in permit applications. In its burden and cost calculations, this ICR includes requests for information supplemental to permit applications. Other parts of the Clean Water Act and federal regulations authorize EPA to collect information that supplements permit applications, such as section 403(c). This ICR calculates the burden and costs for all information collection activities associated with applications for permits. Application information is necessary to obtain an NPDES or sewage sludge permit.

Burden Statement: The total respondent burden nation-wide for the Applications for National Pollutant Discharge Elimination System Discharge Permits and the Sewage Sludge Management Permits is 1,306,704 burden hours for 291,898 permittee respondents per year. Additionally, the 45 State and 1 Territory respondents authorized to administer the NPDES Program incur a burden of 92,033 hours annually.

Dated: January 6, 2003.
James A. Hanlon,
Director, Office of Wastewater Management.

[FR Doc. 03-516 Filed 1-9-03; 8:45 am]

BILLING CODE 6560-50-P